DEPARTMENT OF THE INTERIOR

Bureau of Land Management

[WO-320-1330-PB-24 1A; OMB Control Number 1004-0169]

Information Collection Submitted to the Office of Management and Budget Under the Paperwork Reduction Act

The Bureau of Land Management (BLM) has submitted the proposed collection of information listed below to the Office of Management and Budget (OMB) for approval under the provisions of the Paperwork Reduction Act (44 U.S.C. 3501 et seq.). On June 25, 2004, the BLM published a notice in the Federal Register (69 FR 35674) requesting comments on this proposed collection. The comment period ended on August 24, 2004. The BLM received no comments. You may obtain copies of the proposed collection of information and related forms and explanatory material by contacting the BLM Information Collection Clearance Officer at the telephone number listed below.

The OMB is required to respond to this request within 60 days but may respond after 30 days. For maximum consideration your comments and suggestions on the requirement should be made within 30 days directly to the Office of Management and Budget, Interior Department Desk Officer (1004-0169), at OMB-OIRA via facsimile to (202) 395-6566 or e-mail to OIRA_DOCKET@omb.eop.gov. Please provide a copy of your comments to the Bureau Information Collection Clearance Officer (WO-630), Bureau of Land Management, Eastern States Office, 7450 Boston Blvd, Springfield, Virginia 22153.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated, electronic, mechanical, or other forms of information technology.

Title: Use and Occupancy (43 CFR 3715).

OMB Control Number: 1004-0169.

Bureau Form Number: Nonform information.

Abstract: The Bureau of Land Management proposes to extend the currently approved collection of information from mining claimants concerning use and occupancy of their mining claims on public lands. The nonform information authorizes BLM to manage the use and occupancy on public lands for developing the mining deposits by mining claimants.

Frequency: On occasion.

Description of Respondents: Mining claimants and operators of prospecting, exploration, mining, and processing operations.

Estimated Completion Time: 2 hours.

Annual Responses: 150

Application Fee Per Response: 0.

Information Collection Cost Recovery Fee: 0.

Annual Burden Hours: 300.

Bureau Clearance Officer: Ian Senio, (202) 452-5033.

Dated: April 26, 2005.
Ian Senio,
Bureau of Land Management, Information Collection Clearance Officer.

[FR Doc. 05-12222 Filed 6-20-05; 8:45 am]

BILLING CODE 4310-84-M